ENVIRONMENTAL PROTECTION AGENCY

40 CFR Part 52

[EPA-R05-OAR-2016-0276; FRL-9948-18-Region 5]

Determination of Attainment by the Attainment Date; 2008 Ozone National Ambient Air Quality Standards; Cleveland, Ohio and St. Louis, Missouri-Illinois Areas

AGENCY: Environmental Protection Agency (EPA).

ACTION: Proposed rule.

SUMMARY: The Environmental Protection Agency (EPA) is proposing to make a determination, under the Clean Air Act, that the Cleveland, Ohio and St. Louis, Missouri-Illinois areas attained the 2008 ozone National Ambient Air Quality Standards by the applicable attainment date of July 20, 2016. This proposed determination for each area is based on complete, quality-assured and certified ozone monitoring data for 2013-2015.

DATES: Comments must be received on or before July 27, 2016.

ADDRESSES: Submit your comments, identified by Docket ID No. EPA-R05-OAR-2016-0276 at http://www.regulations.gov or via email to Aburano.Douglas@epa.gov. For comments submitted at Regulations.gov, follow the online instructions for submitting comments. Once submitted, comments cannot be edited or removed from Regulations.gov. For either manner of submission, EPA may publish any comment received to its public docket. Do not submit electronically any information you consider to be Confidential Business Information (CBI) or other information whose disclosure is restricted by statute. Multimedia submissions (audio, video, etc.) must be accompanied by a written comment. The written comment is considered the official comment and should include discussion of all points you wish to make. EPA will generally not consider comments or comment contents located outside of the primary submission (i.e. on the web, cloud, or other file sharing system). For additional submission methods, please contact the person identified in the FOR FURTHER INFORMATION CONTACT section. For the full EPA public comment policy, information about CBI or multimedia submissions, and general guidance on making effective comments, please visit http://www2.epa.gov/dockets/commenting-epa-dockets.

FOR FURTHER INFORMATION CONTACT: Kathleen D'Agostino, Environmental Scientist, Attainment Planning and Maintenance Section, Air Programs Branch (AR-18J), Environmental Protection Agency, Region 5, 77 West Jackson Boulevard, Chicago, Illinois 60604, (312) 886-1767, dagostino.kathleen@epa.gov.

Deborah Bredehoft, Air Planning and Development Branch, Environmental Protection Agency, Region 7, 11201 Renner Blvd., Lenexa, Kansas 66219, (913) 551-7164, Bredehoft.Deborah@epa.gov.

SUPPLEMENTARY INFORMATION: In the Rules and Regulations section of this Federal Register, EPA is making this determination of attainment as a direct final rule without prior proposal because the Agency views this as a noncontroversial action and anticipates no adverse comments. A detailed rationale for the approval is set forth in the direct final rule. If no adverse comments are received in response to the rule, no further activity is contemplated. If EPA receives adverse comments, the direct final rule will be withdrawn for the affected area and all public comments received will be addressed in a subsequent final rule based on this proposed rule. EPA will not institute a second comment period. Any parties interested in commenting on this action should do so at this time. Please note that if EPA receives adverse comment on an amendment, paragraph, or section of the rule and if that provision may be severed from the remainder of the rule, EPA may adopt as final those provisions of the rule that are not the subject of an adverse comment. For additional information, see the direct final rule which is located in the Rules and Regulations section of this Federal Register.

Dated: June 15, 2016.
Robert A. Kaplan,
Acting Regional Administrator, Region 5.
Dated: June 3, 2016.
Mark Hague,
Regional Administrator, Region 7.

[FR Doc. 2016-15049 Filed 6-24-16; 8:45 am]

BILLING CODE 6560-50-P